DEPARTMENT OF JUSTICE

Notice of Lodging of Consent Decree Pursuant to Resource Conservation and Recovery Act and the Emergency Planning and Community Right-To-Know Act

Notice is hereby given that on December 10, 2009, a proposed Consent Decree in United States v. Elan Chemical Company, Inc., Civil Action No. 2:09-CV-06183 KSH, was lodged with the United States District Court for the District of New Jersey.

The proposed Consent Decree will resolve the United States' claims under Section 3008 of the Resource Recovery and Conservation Act, as amended, 42 U.S.C. 6928(a), and Section 313 and 325(c) of the Emergency Planning and Community Right-to-Know Act (EPCRA), 42 U.S.C. 11023 and 11045(c) against Elan Chemical Company, Inc. (“Defendant”). The United States alleges the Defendant violated various RCRA requirements, incorporated by reference into the New Jersey authorized hazardous waste program regarding the storage and generation of hazardous waste, and a violation under EPCRA. The complaint alleges the following violations: Failure to make a hazardous waste determination in accordance with of 40 CFR 262.11, incorporated by reference at N.J.A.C. § 7:26G-6.1(a); storage of hazardous waste without a permit pursuant to RCRA Section 3005, 42 U.S.C. 6925, and 40 CFR 270.1, incorporated by reference at N.J.A.C. § 7:26G-12.1(a); failure to conduct monthly monitoring of pumps in gas/vapor or light liquid service pursuant to 40 CFR 265.1052(a)(1), incorporated by reference at N.J.A.C. § 7:26G-9.1(a); failure to conduct monthly monitoring of valves in gas/vapor or light liquid service pursuant to 40 CFR 265.1057, incorporated by reference at N.J.A.C. § 7:26G-9.1(a); failure to conduct annual inspections of tanks pursuant to 40 CFR 265.1085(c)(4)(ii), incorporated by reference at N.J.A.C. § 7:26G-9.1(a); failure to keep a log of equipment subject to subpart BB of part 265 pursuant to 40 CFR 265.1064(g), incorporated by reference at N.J.A.C. § 7:26G-9.1(a); and failure to timely file its 2004 toxic release inventory pursuant to EPCRA Section 313, 42 U.S.C. § 10023, and 40 CFR part 372.

The Consent Decree requires Defendant to pay a civil penalty of $200,000. The Consent Decree also provides for injunctive relief to be implemented at the Defendant's facility, consisting of maintenance of ongoing compliance with the hazardous waste regulations, and submission of reports demonstrating such compliance.

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Elan Chemical, Inc., Civil Action No. 2:09-CV-06183, D.J. Ref. No. 90-7-1-08984.

The proposed Consent Decree may be examined at the Office of the United States Attorney, District of New Jersey, Peter Rodino Federal Building, 970 Broad Street, Suite 700, Newark, NJ 07102, and at the United States Environmental Protection Agency, Region II, 290 Broadway, New York, New York 10007-1866. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 (25 cents per page reproduction cost) payable to the U.S. Treasury or, if by e-mail or fax, forward a check in that amount to the Consent Decree Library at the stated address.

Maureen Katz,
Assistant Section Chief, Environmental Enforcement Section, Environment and Natural Resources Division.

[FR Doc. E9-29883 Filed 12-15-09; 8:45 am]

BILLING CODE 4410-15-P